DEPARTMENT OF THE INTERIOR

Bureau of Land Management

43 CFR Part 1820

[WO-850-1820-XZ-24-1A]

RIN 1004-AD34

Application Procedures

AGENCY: Bureau of Land Management, Interior.

ACTION: Final rule.

SUMMARY: This final rule amends the regulation showing the location of the Bureau of Land Management (BLM) State Offices in order to show the new address of the BLM Oregon State Office, which moved in January 2002. Personal, messenger, and express mail delivery of filings and other documents must be to the new office address. You must continue to direct filings and other delivery by U.S. mail to the same post office box address which has not been changed.

EFFECTIVE DATE: May 6, 2002.

FOR FURTHER INFORMATION CONTACT: Michael H. Schwartz, (202) 452-5198. Persons who use a telecommunications device for the deaf (TDD) may call the Federal Information Relay Service at 1-800-877-8339, 24 hours a day, 7 days a week.

SUPPLEMENTARY INFORMATION: This final rule reflects the administrative action of changing the address of the Oregon State Office of BLM. It changes the street address for the location of the BLM Oregon State Office, but makes no other changes in filing requirements. Specifically, the rule does not change the mailing address of the Oregon State Office, but only the street address.

Because this final rule is an administrative action to change the address for one BLM State Office, BLM has determined that it has no substantive impact on the public. It imposes no costs, and merely updates a list of addresses included in the Code of Federal Regulations for the convenience of the public. The Department of the Interior, therefore, for good cause finds under 5 U.S.C. 553(b)(B) and 553(d)(3) that notice and public procedure are unnecessary and that this rule may take effect upon publication.

Because this final rule is a purely administrative regulatory action having no effects upon the public or the environment, we have determined that the rule is categorically excluded from review under Section 102(2)(C) of the National Environmental Policy Act of 1969, 42 U.S.C. 4332(2)(C).

This rule was not subject to review by the Office of Management and Budget under Executive Order 12866.

As required by Executive Order 12630, the Department of the Interior has determined that the rule would not cause a taking of private property. No private property rights are affected by this rule which only reports address changes for BLM State Office. The Department therefore certifies that this rule does not represent a governmental action capable of interference with constitutionally protected property rights.

The rule will not have a substantial direct effect on the states, on the relationship between the National Government and the states, or on the distribution of power and responsibilities among the various levels of government. The rule reflects the administrative action of changing the address of the Oregon State Office of BLM. Therefore, in accordance with Executive Order 13132, BLM has determined that this rule would not have sufficient Federalism implications to warrant preparation of a Federalism Assessment.

Under Executive Order 12988, Civil Justice Reform, the Office of the Solicitor has determined that this rule would not unduly burden the judicial system and that it meets the requirements of the sections 3(a) and 3(b)(2) of the Order.

Further, the Department has determined under the Regulatory Flexibility Act (5 U.S.C. 601, et seq.) that it will not have a significant economic impact on a substantial number of small entities. Reporting address changes for BLM State Offices will not have any economic impact.

This rule does not contain information collection requirements that require approval by the Office of Management and Budget under 44 U.S.C. 3501 et seq.

BLM has determined that this rule is not significant under the Unfunded Mandates Reform Act of 1995, because it will not result in the expenditure by State, local, and tribal governments, in the aggregate, or by the private sector, of $100 million or more in any one year. Further, this rule will not significantly or uniquely affect small governments.

In accordance with Executive Order 13175, Consultation and Coordination with Indian Tribal Governments, we have found this final rule does not included policies that have tribal implications. This administrative final rule reflects the administrative action of changing the address of Oregon State Office of BLM. It changes the street address for the location of the BLM Oregon State Office, but make no other changes in filing requirements.

Executive Order 13211, Actions Concerning Regulations That Significantly Affect Energy Supply, Distribution, or Use. The BLM has determined that this rule will not have substantial direct effects on the energy supply, distribution or use, including a shortfall in supply or price increase. This rule simply changes an address for the Oregon State Office of BLM.

Dated: April 18, 2002.
Rebecca W. Watson,
Assistant Secretary, Land and Minerals Management.

List of Subjects in 43 CFR Part 1820

Administrative practice and procedure, Application procedures, Execution and filing of forms, Bureau offices of record.

For the reasons discussed in the preamble, the Bureau of Land Management, amend 43 CFR part 1820 as follows:

PART 1820—APPLICATION PROCEDURES

1. The authority citation for part 1820 continues to read as follows:

Authority: 5 U.S.C. 552, 43 U.S.C. 2, 1201, 1733, and 1740.

Subpart 1821—General Information

§ 1821.10 Where are BLM offices located?

(a) * * *

State Offices and Areas of Jurisdiction

* * * * *

Oregon State Office, 333 Southwest 1st Avenue, Portland, OR 97204; Mail: P.O. Box 2965, Portland, OR 97208-Oregon and Washington

* * * * *

[FR Doc. 02-11108 Filed 5-3-02; 8:45 am]

BILLING CODE 4310-84-P